DEPARTMENT OF ENERGY

Federal Energy Regulatory Commission

[ Project No. 2351-017]

Public Service Company of Colorado; Notice of Settlement Agreement and Soliciting Comments

Take notice that the following settlement agreement has been filed with the Commission and is available for public inspection.

a. Type of Application: Settlement Agreement.

b. Project No.: P-2351-017.

c. Date filed: March 22, 2013.

d. Applicant: Public Service Company of Colorado.

e. Name of Project: Cabin Creek Pumped Storage Hydroelectric Project.

f. Location: The existing project is located on the South Clear Creek and its tributary Cabin Creek in Clear Creek County, Colorado. The project, as currently licensed, is located on 267 acres of U.S. Forest Service lands within the Arapaho National Forest.

g. Filed Pursuant to: Rule 602 of the Commission's Rules of Practice and Procedure, 18 CFR 385.602.

h. Applicant Contact: Christine E. Johnston, Xcel Energy, 4653 Table Mountain Drive, Golden, CO 80403; (720) 497-2156.

i. FERC Contact: Ryan Hansen, (202) 502-8074, ryan.hansen@ferc.gov.

j. Deadline for filing comments: 20 days from the filing of the Settlement Agreement; reply comments are due 30 days from the filing of the Settlement Agreement.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. The Public Service Company of Colorado (PSCo) filed the Settlement Agreement on behalf of itself and the U.S. Forest Service. The purpose of the Settlement Agreement is to resolve among the signatories all issues associated with issuance of a new license for the project regarding instream flows, water quality, aquatic habitat, terrestrial habitat, recreation, aesthetics, and cultural resources. PSCo requests that the Commission accept and incorporate, without material modification, as license articles in the new license to be issued for the project all of the proposed license articles set forth in Attachment 1 to the Settlement Agreement.

l. A copy of the settlement agreement is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

Dated: March 25, 2013.
Kimberly D. Bose,
Secretary.

[FR Doc. 2013-07418 Filed 3-29-13; 8:45 am]

BILLING CODE 6717-01-P